DEPARTMENT OF THE INTERIOR

Bureau of Land Management

[BLM_OR_FRN_MO4500177924]

Notice of Intent To Amend the Upper Deschutes Resource Management Plan and Prepare an Environmental Assessment for a Proposed Recreation and Public Purposes Act Land Conveyance to the City of Redmond in Deschutes County, Oregon

AGENCY: Bureau of Land Management, Interior.

ACTION: Notice of intent.

SUMMARY: In compliance with the National Environmental Policy Act of 1969, as amended (NEPA), and the Federal Land Policy and Management Act of 1976, as amended (FLPMA), the Bureau of Land Management (BLM) Oregon/Washington (OR/WA) State Director intends to prepare a Resource Management Plan (RMP) amendment with an associated environmental assessment (EA) for the Upper Deschutes RMP (2005), and by this notice is announcing the beginning of the scoping period to solicit public comments, identify issues, and provide the planning criteria for public review. The planning process and EA are necessary to evaluate an application for a Recreation and Public Purposes Act (RPPA) conveyance that would allow the City of Redmond in Central Oregon to expand the Redmond Wastewater Expansion Project.

DATES: The BLM requests that the public submit comments concerning the scope of the analysis, potential alternatives, and identification of relevant information and studies, by October 18, 2024. To afford the BLM the opportunity to consider issues in the Draft RMP Amendment/EA, please ensure your comments are received prior to the close of the scoping period or 15 days after the last public meeting, whichever is later.

ADDRESSES: You may submit comments on issues and planning criteria related to the Upper Deschutes RMP Amendment EA by any of the following methods:

• Website: https://eplanning.blm.gov/eplanning-ui/project/2022284/510.

• Email: blm_or_pr_lands@blm.gov.

• Fax: 541-416-6782.

• Mail: 3050 NE Third Street, Prineville, OR 97754.

Documents pertinent to this proposal may be examined online at https://eplanning.blm.gov/eplanning-ui/project/2022284/510 and at the Prineville District, Deschutes Field Office, 3050 NE Third Street, Prineville, OR 97754.

FOR FURTHER INFORMATION CONTACT: Ferris Couture, Planning and Environmental Coordinator, telephone 541-416-6711; address 3050 NE Third Street, Prineville, OR 97754; email blm_or_pr_lands@blm.gov. Contact Mrs. Couture to have your name added to our mailing list. Individuals in the United States who are deaf, blind, hard of hearing, or have a speech disability may dial 711 (TTY, TDD, or TeleBraille) to access telecommunications relay services for contacting Mrs. Couture. Individuals outside the United States should use the relay services offered within their country to make international calls to point-of-contact in the United States.

SUPPLEMENTARY INFORMATION: This document provides notice that the BLM OR/WA State Director intends to prepare an amendment to the Upper Deschutes RMP with an associated EA for the Redmond Wastewater Pollution Control Facility Project, announces the beginning of the scoping process, and seeks public input on issues and planning criteria. The planning process and EA are necessary to evaluate an application for a RPPA conveyance that would allow the City of Redmond in Deschutes County, Oregon to expand the Redmond Wastewater Pollution Control Facility. The RPPA conveyance would allow the City of Redmond to acquire 541.5 acres of BLM-administered lands within the Steamboat Rock Special Recreation Management Area (SRMA) as designated by the Upper Deschutes RMP. The conveyance of these public lands would require an amendment to the Upper Deschutes RMP. The scope of this land use planning process does not include addressing the evaluation or designation of Areas of Critical Environmental Concern (ACEC), and the BLM is not considering ACEC nominations as part of this process.

Purpose and Need

The purpose is to respond to the City of Redmond's RPPA application to acquire 541.5 acres of BLM-administered land and to amend the Upper Deschutes RMP to allow for the proposed conveyance. The need to respond to the RPPA application arises from the RPPA, as amended, and section 211 of FLPMA, which authorizes the conveyance of public lands to States and local governments. Both the RPPA and FLPMA recognize the need for a nationwide system of parks and other recreational and public purpose areas. The BLM has the authority to approve, approve with modification, or not approve the application. In order to authorize a conveyance of the lands identified, the BLM would need to amend the Upper Deschutes RMP because the area is currently designated as a SRMA.

The purpose of the amendment is to change the boundary of the SRMA, the motorized and non-motorized access and recreation opportunities, and the associated trail system within the revised SRMA boundary in accordance with FLPMA and the principles of multiple use and sustained yield.

Preliminary Alternatives

The BLM is currently considering three preliminary alternatives. Under the No Action alternative, the BLM would not approve the City of Redmond's RPPA application to acquire 541.5 acres of BLM-administered land to allow for the expansion of its wastewater treatment facility, and the BLM would not amend the Upper Deschutes RMP. The Steamboat Rock SRMA would retain current access and recreational use. There would be no change to the existing 43 miles of motorized and non-motorized shared use trail system.

Under the preliminary Proposed Action alternative, the BLM would amend the Upper Deschutes RMP and approve the City of Redmond's RPPA application and convey 541.5 acres of BLM-administered land to allow for the expansion (construction and operation) of the wastewater treatment facility. As part of the conveyance process, a Phase I Environmental Site Assessment would be conducted to ensure BLM compliance with section 120(h) of the Comprehensive Environmental Response, Compensation and Liability Act. In addition, the City of Redmond would coordinate with the Environmental Protection Agency and other regulatory agencies to ensure the appropriate permits are obtained for the proposed use.

The 541.5 acres, if conveyed to the City of Redmond, would no longer be a component of the Steamboat Rock SRMA. The removal of the 541.5 acres would change access and management of 5 miles of the motorized and non-motorized shared use trail systems in the southeast corner of the area. The change would not affect the remaining 38 miles of trails within the area. Access to the 38 miles of trail in the main block of the SRMA would remain open as a designated shared use trail system for motorized off-highway vehicles and non-motorized uses. The total acreage of the Steamboat Rock SRMA would be 4,329 acres.

Under the third preliminary alternative, the BLM would take the same actions described under the Proposed Action alternative and would additionally build 5 miles of trails to make up for those that could be lost under the Proposed Action within the remaining acreage of the Steamboat Rock SRMA. The replacement trails would be located outside of the approximately 492 acres of the Deschutes Wild and Scenic River corridor, which is within the western boundary of the SRMA. Under this alternative the trail miles in the remaining Steamboat Rock SRMA would be approximately 43 miles.

The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement with Federal, State, and local agencies; Tribes; and stakeholders. The BLM has identified three preliminary issues for this planning effort's analysis: ground and well water quality and quantity issues, cultural resource concerns, and available recreation uses and access issues. The planning criteria and a map are available for public review and comment at the ePlanning website (see ADDRESSES).

Public Scoping Process

This notice of intent initiates the scoping period and public review of the planning criteria, which guide the development and analysis of the RMP amendment and EA.

The BLM does not intend to hold any public meetings, in-person or virtually, during the public scoping period. Should the BLM later determine to hold public meetings, the specific date(s) and location(s) of any meeting will be announced at least 15 days in advance through the media and the following methods. To inform the public of both the scoping period and any potential public meetings, a press release will be provided to two local television stations, six radio stations, five local newspapers, direct mailing to interested members of the public, and publication of documents to BLM's ePlanning project page.

After the scoping process, the BLM will prepare and circulate an EA for public review and comment.

Interdisciplinary Team

The BLM will use an interdisciplinary approach to develop the plan in order to consider the variety of resource issues and concerns identified. Specialists involved in this planning effort include: wildlife biologist, hydrologist, botanist, archaeologist, recreation specialist, planning and environmental coordinator, and realty specialist.

Additional Information

The BLM will identify, analyze, and consider mitigation to address the reasonably foreseeable impacts to resources from the proposed plan amendment and reasonable alternatives and, in accordance with 40 CFR 1502.14(e), include appropriate mitigation measures not already included in the proposed plan amendment or alternatives. Mitigation may include avoidance, minimization, rectification, reduction or elimination over time, and compensation, and may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration. Federal, State, and local agencies, along with Indian Tribal Nations and stakeholders that may be interested in or affected by the proposed conveyance and Upper Deschutes RMP Amendment that the BLM is evaluating, are invited to participate in the scoping process and, if eligible, may request or be requested by the BLM to participate in the development of the RMP amendment and EA as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2)

Barry R. Bushue,
State Director Oregon/Washington BLM.

[FR Doc. 2024-21138 Filed 9-17-24; 8:45 am]

BILLING CODE 4331-24-P